MARINE MAMMAL COMMISSION

Sunshine Act Notice

TIME AND DATE: The Marine Mammal Commission and its Committee of Scientific Advisors on Marine Mammals will meet on Tuesday, 10 May 2011, from 1 p.m. to 6 p.m.; Wednesday, 11 May 2011, from 8:30 a.m. to 6 p.m.; and Thursday, 12 May 2011, from 8:30 a.m. to 5 p.m. The Commission and the Committee will meet in executive session on Tuesday, 10 May 2011, from 9:30 to 11:30 a.m.

PLACE: Astor Crown Plaza Hotel, 739 Canal Street, New Orleans, LA 70130; telephone: 504-962-0500; fax: 504-962-0503.

STATUS: The executive session will be closed to the public in accordance with the provisions of the Government in the Sunshine Act (5 U.S.C. 552b) and applicable regulations. The session will be for internal discussions of process, personnel, and the budget of the Commission. All other portions of the meeting will be open to the public. Public participation will be allowed as time permits and as determined to be desirable by the Chairman.

MATTERS TO BE CONSIDERED: The Commission and Committee will meet in public session to discuss a broad range of marine ecosystem and marine mammal matters with a focus on the Gulf of Mexico and the impact of the Deepwater Horizon oil spill on marine ecosystems. Although subject to change, other major issues that the Commission plans to consider at the meeting include conservation and protection of Florida manatees, Cook Inlet beluga whales in Alaska, and vaquita in the Gulf of California; and Arctic oil and gas development and risks.

CONTACT PERSON FOR MORE INFORMATION: Suzanne Montgomery, Special Assistant to the Executive Director, Marine Mammal Commission, 4340 East-West Highway, Room 700, Bethesda, MD 20814; 301-504-0087; e-mail: smontgomery@mmc.gov.

Dated: April 15, 2011.
Timothy J. Ragen,
Executive Director.

[FR Doc. 2011-9637 Filed 4-18-11; 4:15 pm]

BILLING CODE 6820-31-M